DEPARTMENT OF ENERGY

Federal Energy Regulatory Commission

[Docket No. RM05-30-000]

Rules Concerning Certification of the Electric Reliability Organization and Procedures for the Establishment, Approval and Enforcement of Electric Reliability Standards; Notice of New Docket Prefix “NP” for Notices of Penalty Filed by the North American Electric Reliability Corporation

February 7, 2008.

Notice is hereby given that a new docket prefix “NP” has been established for Notices of Penalty filed by the North American Electric Reliability Corporation (NERC) pursuant to Order No. 672, issued February 3, 2006.¹

¹ Rules Concerning Certification of the Electric Reliability Organization; and Procedures for the Establishment, Approval, and Enforcement of Electric Reliability Standards (Order No. 672), III FERC Stats. & Regs. ¶ 31,204 (2006).

Regional Entities have authority under Order No. 672 to assess penalties for violations of Reliability Standards approved by the Commission. After a Regional Entity assesses a penalty, NERC reviews it. If appropriate, NERC will make a filing with the Commission called a “Notice of Penalty.”

Each “Notice of Penalty” will receive a new “NP” docket number.²

² The Commission had previously indicated that a Notice of Penalty will receive an “RC” docket number. Notice of New RR, RD, and RC Prefixes, issued April 7, 2006. The current Notice of New Docket Prefix supersedes our previous designation. The “RC” docket prefix will continue to be used for other filings relating to compliance with Reliability Standards, including appeals of registration decisions made by NERC.

Notices of Penalty may be submitted using the Commission's electronic filing system (http://www.ferc.gov/docs-filing/efiling.asp). The Commission intends to release a new version of its electronic filing system on February 29, 2008. The new version will greatly expand the documents eligible for efiling and will eliminate the need for most of the special filing procedures currently posted on the Commission's Web site. If NERC plans to file any Notices of Penalty before February 29, 2008, NERC should contact the efiling Help Line (202-502-8258; efiling@ferc.gov) in advance of filing to request pre-assignment of an NP Docket Number. If NERC plans to file any Notice of Penalty that includes non-public information, or an entity seeks to file an Application for Review that includes non-public information, contact the efiling Help Line.

Kimberly D. Bose,
Secretary.

[FR Doc. E8-2730 Filed 2-13-08; 8:45 am]

BILLING CODE 6717-01-P